CORPORATION FOR NATIONAL AND COMMUNITY SERVICE

Agency Information Collection Activities; Submission to the Office of Management and Budget for Review and Approval; Comment Request; Disability Accommodation Reimbursement Request Form

AGENCY: Corporation for National and Community Service.

ACTION: Notice of Information Collection; request for comment.

SUMMARY: The Corporation for National and Community Service, operating as AmeriCorps, has submitted a public information collection request (ICR) entitled Disability Accommodation Reimbursement Request Form for review and approval in accordance with the Paperwork Reduction Act.

DATES: Written comments must be submitted to the individual and office listed in the ADDRESSES section by March 2, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Sharron Tendai at 202-606-3904 or by email to stendai@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day notice requesting public comment was published in the Federal Register on November, 14, 2022 at Vol. 87 FR 68139. This comment period ended January 19, 2023. Three public comments were received in response to that notice. One anonymous commenter generally said AmeriCorps should make it easier for organizations providing accommodations to be reimbursed, but did not provide any specific suggestions for how to do so. Another commenter supported the comments from the third commenter and in particular highlighted that AmeriCorps' estimated time burden is unrealistic. AmeriCorps has adjusted its time burden estimate in response to these comments, increasing the time per response from 9 minutes to 20 minutes as suggested. A few comments related to funding processes and the provision of training on diversity inclusion and accommodation, which are beyond the scope of this information collection request. Comments also requested updating the form to reflect AmeriCorps' branding and specifying the point of contact is at the prime level. AmeriCorps has incorporated these changes into the form and is investigating the feasibility of changing the form to a web-based form, as suggested.

Title of Collection: Disability Accommodation Reimbursement Request Form.

OMB Control Number: 3045-0179.

Type of Review: Renewal.

Respondents/Affected Public: Individuals, Businesses, Organizations, State, Local and Tribal Governments.

Total Estimated Number of Annual Responses: 20.

Total Estimated Number of Annual Burden Hours: 7.

Abstract: AmeriCorps grantees provide the information to request reimbursement for services associated with reasonable accommodation of AmeriCorps service members. The information will be collected electronically via email by submission of this form and the receipt(s) for services. AmeriCorps seeks to renew the current information collection without revisions. The information collection will be used in the same manner as the existing application. AmeriCorps also seeks to continue using the current application until the revised application is approved by OMB. The current application is due to expire on January 31, 2023.

Margery Ansara,
Acting Chief of Program Operations.

[FR Doc. 2023-01957 Filed 1-30-23; 8:45 am]

BILLING CODE 6050-28-P